DEPARTMENT OF TRANSPORTATION

National Highway Traffic Safety Administration

[Docket No. NHTSA-2026-0265]

NHTSA Automated Vehicle Safety Public Meeting: March 2026

AGENCY: National Highway Traffic Safety Administration (NHTSA), Department of Transportation (DOT).

ACTION: Notice of a public meeting.

SUMMARY: The National Highway Traffic Safety Administration (NHTSA) will hold a public meeting on March 10, 2026. The event will provide updates and insights into ongoing vehicle automation activities across NHTSA. The meeting will be held in-person and will feature keynote addresses from the DOT leadership and industry executive panel discussions on key Automated Driving Systems (ADS) topics in the morning. The second portion of the meeting will build upon the ADS workshop held November 20, 2025. NHTSA gleaned valuable information from stakeholders on various topics. In this subsequent meeting, NHTSA intends to gather specific input on potential actions, including potential future guidance to the safe domestic development, testing and deployment of ADS equipped vehicles. NHTSA intends to utilize stakeholder input to better inform the agency's upcoming activities. The event will not be live streamed.

DATES: NHTSA will hold the Automated Vehicle Safety public meeting on March 10, 2026. Attendees must register no later than March 5, 2026. The public docket will remain open for comments for 30 days following the public meeting, until April 10, 2026.

ADDRESSES: The Automated Vehicle Safety public meeting be held in-person at the DOT Headquarters: 1200 New Jersey Avenue SE, West Building Atrium, Washington, DC 20590.

Registration: Attendees must register at https://www.nhtsa.gov/events/av-public-meeting-2026. Please follow the registration instructions presented on the registration site.

Comments: You may submit comments about either the public meeting or the workshop by any of the following methods:

• Federal eRulemaking Portal: Go to http://www.regulations.gov. Follow the online instructions for submitting comments.

• Mail: Docket Management Facility: U.S. Department of Transportation, 1200 New Jersey Avenue SE, West Building Ground Floor, Room W12-140, Washington, DC 20590-0001.

• Hand Delivery or Courier: 1200 New Jersey Avenue SE, West Building Ground Floor, Room W12-140, Washington, DC 20590-0001, between 9 a.m. and 5 p.m. ET, Monday through Friday, except Federal Holidays. To be sure someone is there to help you, please call 202-366-9826 before coming.

• Fax: 202-366-1767.

Instructions: All submissions must include the agency name and docket number. Note that all comments received will be posted without change to http://www.regulations.gov, including any personal information provided. Please see the Privacy Act discussion below.

Docket: For access to the docket go to http://www.regulations.gov at any time or to 1200 New Jersey Avenue SE, West Building, Ground Floor, Room W12-140, Washington, DC 20590 between 9 a.m. and 5 p.m., Monday through Friday, except Federal Holidays. Telephone: 202-366-9826.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78), or you may visit http://www.regulations.gov/privacy.html.

Confidential Business Information: If you wish to submit any information under a claim of confidentiality, you must submit your request directly to NHTSA's Office of the Chief Counsel. Requests for confidentiality are governed by part 512. NHTSA is currently treating electronic submission as an acceptable method for submitting confidential business information to the agency under part 512. If you would like to submit a request for confidential treatment, you may email your submission to Dan Rabinovitz in the Office of the Chief Counsel at Daniel.Rabinovitz@dot.gov or you may contact him for a secure file transfer link. At this time, you should not send a duplicate hardcopy of your electronic CBI submissions to DOT headquarters. If you claim that any of the information or documents provided to the agency constitute confidential business information within the meaning of 5 U.S.C. 552(b)(4), or are protected from disclosure pursuant to 18 U.S.C. 1905, you must submit supporting information together with the materials that are the subject of the confidentiality request, in accordance with part 512, to the Office of the Chief Counsel. Your request must include a cover letter setting forth the information specified in our confidential business information regulation (49 CFR 512.8) and a certificate, pursuant to § 512.4(b) and part 512, appendix A. In addition, you should submit a copy, from which you have deleted the claimed confidential business information, to the Docket at the address given above.

FOR FURTHER INFORMATION CONTACT: If you have questions about the public meeting, please contact Debbie Sweet at Debbie.Sweet@dot.gov or 202-366-7409.

SUPPLEMENTARY INFORMATION: On April 24, 2025, Secretary Duffy announced NHTSA's Automated Vehicle (AV) Framework. The AV Framework is built on three principles:

• Prioritize the safety of ongoing AV operations on public roads

• Unleash innovation by removing unnecessary regulatory barriers

• Enable commercial deployment of AVs to enhance safety and mobility for the American public.

The Agency continues to execute actions to further the AV Framework in support of Administration and DOT priorities. As the next step, NHTSA is holding an Automated Vehicle Safety meeting on March 10, 2026. This meeting is intended to inform the public and NHTSA stakeholders about the agency's ongoing activities AV safety. DOT executive leadership will discuss recent work and planned future activities.

The second portion of the event will include several workshopping tables to allow NHTSA to hear from stakeholders on a variety of ADS topics, including on NHTSA's intent to provide updated guidance. NHTSA encourages attendees to prepare to provide input on ADS operations and safety. Updates and additional details on the working group topics will be posted at https://www.nhtsa.gov/events/av-public-meeting-2026 in advance of the event, and NHTSA will notify registrants by email when new information becomes available.

NHTSA seeks public comments on the information presented, as well as input on the agency's AV priorities, need for Federal guidance, and additional gaps or needs the public may believe NHTSA should address. Additionally, NHTSA seeks input on topics for future stakeholder meetings.

Registration is required for anyone planning to attend either or both the public meeting and the ADS workshop. Instructions for registration as well as accessing the docket are found under the ADDRESSES heading. Updates on this event will be available at https://www.nhtsa.gov/events/av-public-meeting-2026 and NHTSA recommends checking back periodically for updates or potential schedule changes.

NHTSA is committed to providing equal access to this event for all participants and accommodation requests may be sent to NHTSA.Communication@dot.gov by March 2, 2026.

Should it be necessary to cancel or reschedule the meeting due to an unforeseen circumstance, NHTSA will take all available measures to notify registered participants as soon as possible. The event will not be live streamed.

Issued on February 4, 2026.
Jonathan Morrison,
Administrator, National Highway Traffic Safety Administration.

[FR Doc. 2026-02503 Filed 2-6-26; 8:45 am]

BILLING CODE 4910-59-P